POSTAL REGULATORY COMMISSION

[Docket No. MC2011-24; Order No. 714]

Classification Changes for Competitive Mail Services

AGENCY: Postal Regulatory Commission.

ACTION: Notice.

SUMMARY: The Commission is noticing a recently-filed Postal Service notice of two classification changes concerning certain competitive mail services. This notice informs the public of the filing, addresses preliminary procedural matters, and invites public comment.

DATES: Comments are due: April 22, 2011.

ADDRESSES: Submit comments electronically by accessing the “Filing Online” link in the banner at the top of the Commission's Web site (http://www.prc.gov) or by directly accessing the Commission's Filing Online system at https://www.prc.gov/prc-pages/filing-online/login.aspx. Commenters who cannot submit their views electronically should contact the person identified in FOR FURTHER INFORMATION CONTACT section as the source for case-related information for advice on alternatives to electronic filing.

FOR FURTHER INFORMATION CONTACT: Stephen L. Sharfman, General Counsel, at 202-789-6820 (case-related information) or DocketAdmins@prc.gov (electronic filing assistance).

SUPPLEMENTARY INFORMATION: On April 8, 2011, the Postal Service filed a notice of two classification changes pursuant to 39 CFR 3020.90 and 3020.91 concerning certain competitive mail services.¹ The first change modifies the size and weight limitation table for Global Express Guaranteed (GXG) in the Mail Classification Schedule (MCS) with the addition of a note to reflect that country-specific restrictions may apply as designated in the International Mail Manual. The Postal Service states that this minor change is proposed to reflect changes to country-specific size and weight restrictions imposed by the Postal Service's delivery carrier. Id. at 1. It relates that a note reflecting restrictions applicable to Express Mail International (EMI) is currently included in the MCS and the change for GXG is intended to parallel the EMI restrictions. Id. The Postal Service states that it intends to publish the country-specific restrictions in the Postal Bulletin on June 2, 2011, with an effective date of June 6, 2011. Id.

¹ Notice of United States Postal Service of Classification Changes, April 8, 2011 (Notice).

The second change adds another dimensional option to the large Flat Rate Box for Priority Mail and Outbound Priority Mail International services. Id. at 1. The Postal Service explains that the current dimensions are 12.25 x 12.25 x 6.0 inches and the new option of 11.875 x 3.125 x 24.0625 inches is suited for board games. Id. at 2. It states that the cubic size of the new large Flat Rate Box remains the same. The Postal Service states that inadvertently it did not advise the Commission that this dimension option is currently available on http://www.usps.com. Therefore, it proposes that the change to the MCS reflecting this change be effective as soon as possible. Id.

The Postal Service asserts these classification changes are consistent with the requirements of 39 U.S.C. 3642, and further proposes conforming MCS language. Id. at 2.

The Commission establishes Docket No. MC2011-24 for consideration of matters related to the proposed classification change identified in the Postal Service's Notice.

Interested persons may submit comments on whether the Postal Service's request is consistent with the policies of 39 U.S.C. 3642 and generally with the provisions of title 39. Comments are due no later than April 22, 2011. The Postal Service's Notice can be accessed via the Commission's Web site (http://www.prc.gov).

The Commission appoints Jeremy Simmons to serve as Public Representative in the captioned proceeding.

It is ordered:

1. The Commission establishes Docket No. MC2011-24 for consideration of matters raised by the Postal Service's Notice.

2. Comments by interested persons are due no later than April 22, 2011.

3. Pursuant to 39 U.S.C. 505, Jeremy Simmons is appointed to serve as the officer of the Commission (Public Representative) to represent the interests of the general public in this proceeding.

4. The Secretary shall arrange for publication of this Order in the Federal Register.

By the Commission.
Shoshana M. Grove,
Secretary.

[FR Doc. 2011-9145 Filed 4-14-11; 8:45 am]

BILLING CODE 7710-FW-P